DEPARTMENT OF TRANSPORTATION

Pipeline and Hazardous Materials Safety Administration

[Docket Number PHMSA-2016-0110; Notice No. 2016-21]

Hazardous Materials: Damaged, Defective, Recalled Lithium Cells or Batteries or Portable Electronic Devices

AGENCY: Pipeline and Hazardous Materials Safety Administration (PHMSA), DOT.

ACTION: Withdrawal of Safety Advisory Notice No. 2016-18.

SUMMARY: Safety Advisory Notice 2016-18 is withdrawn effective at noon (ET) on October 15, 2016. At that time, it will be superseded by an Emergency Restriction/Prohibition Order [Order No. FAA-2016-9288] by the United States Department of Transportation (DOT) pursuant to 49 U.S.C. 5121(d).

FOR FURTHER INFORMATION CONTACT: Kevin Leary, Standards and Rulemaking Division, Pipeline and Hazardous Materials Safety Administration, telephone: (202) 366-8553.

SUPPLEMENTARY INFORMATION:

Additional Information

Additional information pertinent to the Order is available through the Office of the Federal Register Web site (https://www.federalregister.gov/public-inspection/current).

Additional information pertinent to the traveling public is available through the DOT Safe Travel Web site (see http://phmsa.dot.gov/safetravel/batteries) and through the FAA Pack Safe Web site (see http://www.faa.gov/Go/PackSafe). For additional information on returning your device to the manufacturer, please call 1-800-SAMSUNG or 1-800-726-7864. For additional information on the recall please visit the Consumer Product Safety Commission's Web site at www.cpsc.gov.

Issued in Washington, DC, on October 14, 2016.
Marie Therese Dominguez,
Administrator, Pipeline and Hazardous Materials Safety Administration.

[FR Doc. 2016-25362 Filed 10-19-16; 8:45 am]

BILLING CODE 4910-60-P